DEPARTMENT OF THE INTERIOR

Bureau of Land Management

43 CFR Parts 3100 and 3120

[Docket No. BLM-2025-0139; A2407-014-004-065516; #O2412-014-004-047181.1]

RIN 1004-AF42

Revision to Regulations Regarding Competitive Leases; Expression of Interest Process

AGENCY: Bureau of Land Management, Interior.

ACTION: Final rule.

SUMMARY: The Bureau of Land Management (BLM) is amending its rules governing fees for expressions of interest (EOI) to effectuate changes required by the “One Big Beautiful Bill Act” (OBBB) enacted on July 4, 2025.

DATES: This final rule is effective on August 1, 2025.

ADDRESSES: You may send inquiries to Director (630), Bureau of Land Management, 1849 C St. NW, Room 5646, Washington, DC 20240; Attention: RIN 1004-AF42.

FOR FURTHER INFORMATION CONTACT: Peter Cowan, Senior Minerals Leasing Specialist, email: picowan@blm.gov, telephone: 720-838-1641. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0139 on www.regulations.gov.

SUPPLEMENTARY INFORMATION: Oil and gas leasing on Federal lands managed by the BLM is governed by the Mineral Leasing Act of 1920 (MLA), 30 U.S.C. 181 et seq., and other pertinent statutes. See 43 CFR 3100.3. Section 226 of the MLA sets out the general provisions governing oil and gas leasing on Federal lands. In 2022, Congress passed the Inflation Reduction Act (IRA), Public Law 117-169 (136 Stat.2056). Section 50262(d) of the IRA amended section 226 by adding a new subparagraph (q) that addressed EOIs and imposed a fee of $5 per acre to be paid when a party submitted an EOI to the BLM indicating an interest in leasing the lands included in the EOI. The new subparagraph (q) also required the fee to be adjusted every 4 years for inflation. Before enactment of the IRA, the term “EOI” referred to an informal notice from a company or a member of the public indicating interest in leasing specific lands. At that time, the BLM's regulations did not provide for an EOI process; instead, the BLM treated the EOI as a suggestion that the BLM should consider for offering specific lands on a competitive oil and gas lease sale. Therefore, the BLM promulgated a new regulatory requirement in 2024 when it issued new oil and gas regulations to implement this and other provisions of the IRA. The BLM promulgated the regulatory fee requirement to implement the IRA provision regarding EOI fees in 43 CFR 3120.31—Expression of Interest Process. This section set out the general requirements for submitting EOIs and set out the fee at 43 CFR 3120.31(d). The fee was also added to BLM's fiscal terms schedule found at 43 CFR 3103.1(a) Table 1, since it was to be adjusted for inflation on a regular schedule.

Section 50101(a)(1) of the OBBB repealed section 50262(d) of the IRA in its entirety. Based on the language in the OBBB, the BLM may no longer charge a fee for submission of an EOI. To effectuate this requirement, the BLM is issuing this final rule to remove the inclusion of the fee in Table 1 of 43 CFR 3103.1(a) and 43 CFR 3120.31(d). Because the BLM is removing 43 CFR 3120.31(d), it is also making a conforming change by redesignating the existing 43 CFR 3120.31(e) to 3120.31(d). Issuance of this final rule will avoid any confusion on the part of the regulated community as to whether a fee is required when submitting an EOI to the BLM.

The BLM has determined that 43 CFR 3120.31(d) must be revised to reflect the fact that the BLM no longer has any authority to collect such a fee after the enactment of the OBBB. Because the BLM is removing the existing 43 CFR 3120.31(d), it must make the conforming change to existing 43 CFR 3120.31(e) by redesignating paragraph “(e)” to paragraph “(d)”.

The BLM has determined that enactment of the OBBB, independently and alone, justifies the revisions to 43 CFR 3121.31(d) and (e), as well as the change to Table 1 in 3103.1(a). The BLM has no interest in maintaining a regulation that has been repealed by statute and could cause confusion.

The BLM is issuing this rule as a final rule. Although the Administrative Procedure Act (APA, 5 U.S.C. 551 through 559) generally requires agencies to engage in notice and comment rulemaking, section 553 of the APA provides an exception when the agency “for good cause finds” that notice and comment are “impracticable, unnecessary, or contrary to the public interest.” Id. 553(b)(B). The BLM has determined that public notice and comment are unnecessary because this rule is noncontroversial, of a minor, technical nature, and involves no agency discretion.

Procedural Matters

Executive Order (E.O.) 12630—Governmental Actions and Interference With Constitutionally Protected Property Rights

This rule does not result in a taking of private property or otherwise have regulatory takings implications under E.O. 12630. The rule rescinds a regulatory provision that implemented a provision of law that has been repealed by enactment of the OBBB. The rule will not result in private property being taken for public use without just compensation. A takings implication assessment is not required.

E.O. 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The BLM developed this rule in a manner consistent with these requirements.

E.O. 12988—Civil Justice Reform

This final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 13175—Consultation and Coordination With Indian Tribal Governments

The Department of the Interior strives to strengthen its government-to-government relationship with Indian Tribes through a commitment to consultation with Tribes and recognition of their right to self-governance and Tribal sovereignty. The BLM evaluated this final rule under E.O. 13175 and the Department's consultation policies and determined that it has no substantial direct effects on federally recognized Indian Tribes and that consultation under the Department's Tribal consultation policies is not required. The rule merely revises the Federal regulations to remove obsolete regulatory language.

E.O. 13211—Actions Concerning Regulations That Significantly Affect Energy Supply, Distribution, or Use

This final rule is not a significant energy action as defined in E.O. 13211. Therefore, a Statement of Energy Effects is not required.

National Environmental Policy Act (NEPA)

This final rule does not constitute a major Federal action significantly affecting the quality of the human environment. A detailed statement under NEPA (42 U.S.C. 4321 et seq.) is not required because this rule is covered by a categorical exclusion applicable to regulatory functions “that are of an administrative, financial, legal, technical, or procedural nature.” 43 CFR 46.210(i). In addition, the BLM has determined that this rule does not involve any of the extraordinary circumstances listed in 43 CFR 46.215 that would require further analysis under NEPA.

Paperwork Reduction Act

This rule does not impose any new information collection burden under the Paperwork Reduction Act. OMB previously approved the information collection activities contained in the existing regulations and assigned OMB control number 1004-0185. This rule does not impose an information collection burden because the BLM is not making any changes to the information collection requirements.

Regulatory Flexibility Act

The Regulatory Flexibility Act (RFA, 5 U.S.C. 601-612) requires an agency to prepare a regulatory flexibility analysis for all rules unless the agency certifies that the rule will not have a significant economic impact on a substantial number of small entities. The RFA applies only to rules for which an agency is required to first publish a proposed rule. See 5 U.S.C. 603(a) and 604(a). As the BLM is not required to publish a notice of proposed rulemaking for this direct final rule, the RFA does not apply.

Congressional Review Act

This rule is not a major rule under the Congressional Review Act, 5 U.S.C. 804(2). Specifically, the final rule: (a) Will not have an annual effect on the economy of $100 million or more; (b) Will not cause a major increase in costs or prices for consumers, individual industries, Federal, State, or local government agencies, or geographic regions; and (c) Will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises the Federal regulations to remove an obsolete provision that is no longer used. Therefore, a statement containing the information required by the Unfunded Mandates Reform Act (2 U.S.C. 1531 et seq.) is not required.

List of Subjects

43 CFR Part 3100

Government contracts, Government employees, Mineral royalties, Oil and gas exploration, Oil and gas reserves, Public lands—mineral resources, Reporting and recordkeeping requirements, Surety bonds.

43 CFR Part 3120

Government contracts, Government employees, Oil and gas exploration, Public lands—mineral resources, Reporting and recordkeeping requirements.

Adam G. Suess,
Acting Assistant Secretary, Land and Minerals Management.

For the reasons stated in the preamble, the Bureau of Land Management amends 43 CFR parts 3100 and 3120 as follows:

PART 3100—OIL AND GAS LEASING

1. The authority citation for part 3100 continues to read as follows:

Authority: 25 U.S.C. 396d and 2107; 30 U.S.C. 189, 306, 359, and 1751; 43 U.S.C. 1701 et seq.; and 42 U.S.C. 15801.

§ 3103.1 [Amended]

2. In § 3103.1, amend table 1 to paragraph (a) by removing the entry “Expression of Interest filing fee.”

PART 3120—COMPETITIVE LEASES

3. The authority citation for part 3120 continues to read as follows:

Authority: 16 U.S.C. 3101 et seq.; 30 U.S.C. 181 et seq. and 351-359; 40 U.S.C. 471 et seq.; 43 U.S.C. 1701 et seq.; Pub. L. 113-291, 128 Stat. 3762; and the Attorney General's Opinion of April 2, 1941 (40 Op. Atty. Gen. 41).

§ 3120.31 [Amended]

4. Amend § 3120.31 by removing paragraph (d) and redesignating paragraph (e) as paragraph (d).

[FR Doc. 2025-14621 Filed 7-31-25; 8:45 am]

BILLING CODE 4331-29-P